DEPARTMENT OF THE INTERIOR

National Park Service

Notice of Inventory Completion: San Diego Archaeological Center, San Diego, CA

AGENCY: National Park Service, Interior.

ACTION: Notice.

Notice is here given in accordance with the Native American Graves Protection and Repatriation Act (NAGPRA), 25 U.S.C. 3003, of the completion of an inventory of human remains and associated funerary objects in the possession of San Diego Archaeological Center, San Diego, CA. The human remains and associated funerary objects were removed from six sites in San Diego County, CA.

This notice is published as part of the National Park Service's administrative responsibilities under NAGPRA, 25 U.S.C. 3003 (d)(3). The determinations within this notice are the sole responsibility of the museum, institution, or Federal agency that has control of the Native American human remains and associated funerary objects The National Park Service is not responsible for the determinations within this notice.

A detailed assessment of the human remains was made by San Diego Archaeological Center professional staff in consultation with representatives of the Kumeyaay Cultural Repatriation Committee, which is the authorized NAGPRA representative of the Barona Group of Capitan Grande Band of Mission Indians of the Barona Reservation, California; Campo Band of Diegueno Mission Indians of the Campo Indian Reservation, California; Ewiiaapaayp Band of Kumeyaay Indians, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; Santa Ysabel Band of Diegueno Mission Indians of the Santa Ysabel Reservation, California; Sycuan Band of Diegueno Mission Indians of California; and Viejas (Baron Long) Group of Capitan Grande Band of Mission Indians of the Viejas Reservation, California.

On February 4, 1971, human remains representing a minimum of one individual were discovered by a private individual on his property at the far western end of Batiquitos Lagoon, Leucadia, San Diego County, CA. The human remains were removed by the individual and kept in his possession until 2004. Examination of the human remains by the San Diego County Sheriff confirmed that they are ancient and, based on the age of the human remains, shape of the teeth, and the provenience, experts at local museums confirmed that they are Native American. On January 13, 2004, the human remains were donated to the San Diego Archaeological Center by the private landowner, and were accessioned at that time. Stone tools, perhaps associated with the burial, and reported in a 1971 newspaper article, are no longer in the individual's possession and the location of the stone tools is unknown. No known individual was identified. The 26 associated funerary objects are fragments of fossilized nonhuman bone, shells, and stone flakes.

In 1973, human remains representing a minimum of one individual were removed from site CA-SDI-5699 in Santee, San Diego County, CA, during excavations conducted by Archaeological Consulting Technology, Inc. (ACT), for Time For Living, Inc., a residential development. The collection of archeological materials from the site was stored by ACT until 1998, when it was donated to the San Diego Archaeological Center. No other items subject to NAGPRA were found in the collection. No known individual was identified. No associated funerary objects are present. Other human remains from site CA-SDI-5699 were repatriated to the Cuyapaipe Community of Diegueno Mission Indians of the Cuyapaipe Reservation, now known as Ewiiaapaayp Band of Kumeyaay Indians, California, in 1973, and unassociated funerary objects from the site were reported in a notice of intent to repatriate published in the Federal Register on May 23, 2000 (FR Doc. 00-12850, pages 33352-33353). The San Diego Archaeological Center is currently engaged in the long-term processing of this poorly documented collection.

In or around 1978, human remains representing a minimum of one individual were removed from site CA-SDI-4765 in southern San Diego County, CA, during excavations conducted by Archaeological Consulting Technology, Inc. (ACT) for a private subdivision project. The collection of archeological materials from the site was stored by ACT until 1998, when it was donated to the San Diego Archaeological Center. No other items subject to NAGPRA were found in the collection. No known individual was identified. No associated funerary objects are present.

In 1993 or 1994, human remains representing a minimum of one individual were removed from site CA-SDI-9243 in Santee, San Diego County, CA, during excavations undertaken by the California Department of Transportation (Caltrans). When the collection of archeological materials from site CA-SDI-9243 was accessioned by the San Diego Archaeological Center as part of the Caltrans District 11 collection, bones were found with a note that they had been identified by an expert at the San Diego Museum of Man as “possibly human.” San Diego Archaeological Center staff in consultation with representatives of the Kumeyaay Cultural Repatriation Committee have determined that the remains are likely to be human. No other items subject to NAGPRA were found in the collection. No known individual was identified. No associated funerary objects are present.

In 1995, human remains representing a minimum of one individual were removed from site CA-SDI-9273 in the southeastern part of San Diego County, CA, near the United States-Mexico border and the city of Tecate, Mexico. Site CA-SDI-9273 was excavated in 1995 by Caltrans's District 11 Environmental Analysis Branch as part of a cultural resources assessment prior to development of the property. The site was described in a Caltrans report as containing a human cremation feature, ceramic and lithic scatter, faunal material, and other artifacts associated with village life. The report also mentions discovery of inhumations and the proposed reburial of the human remains, which would occur after project completion. The collection of archeological materials was brought to the San Diego Archaeological Center on August 11, 2001, and the cremated human remains were discovered while preparing the collection for permanent curation. No other items subject to NAGPRA were found in the collection. The collection also includes 108 cataloged items, including chipped stone, and faunal and Historic-period artifacts. No known individual was identified. No associated funerary objects are present.

In 1996-1997, human remains representing a minimum of two individuals were removed from CA-SDI-4530, also known as the Salt Creek Ranch site, in southern San Diego County, CA. Site CA-SDI-4530 lies partially within the Bonita-Miguel National Register District, northwest of the upper Otay Reservoir and across Proctor Road. Site CA-SDI-4530 was excavated for Pacific Bay Homes in 1996-1997 by Brian F. Smith & Associates. Native American consultant Clarence Brown monitored the excavation. A partial copy of the site report indicates that the site was excavated at an earlier unknown date by ERC, an environmental company. The collection of archeological materials excavated in 1996-1997 was accessioned by the San Diego Archaeological Center in August 1999. No other items subject to NAGPRA were found in the collection. No known individuals were identified. No associated funerary objects are present.

Archeological evidence, including artifacts typical of the late Prehistoric and early Historic periods (1500 B.C. to circa A.D. 1700), indicates that the sites described above were either burial or habitation sites of Native Americans. Some of the human remains show evidence of cremation, which was typical of the burial practices during this cultural period. The human remains were likely interred before the arrival of Europeans in the area. Archeological and historical literature, and oral historical evidence presented during consultation, confirm that all of the sites described above are located within traditional and historical Kumeyaay territory.

Officials of the San Diego Archaeological Center have determined that, pursuant to 25 U.S.C. 3001 (9-10), the human remains listed above represent the physical remains of a minimum of seven individuals of Native American ancestry. Officials of the San Diego Archaeological Center also have determined that, pursuant to 25 U.S.C. 3001 (3)(A), the 26 objects described above are reasonably believed to have been placed with or near individual human remains at the time of death or later as part of the death rite or ceremony. Lastly, officials of the San Diego Archaeological Center also have determined that, pursuant to 25 U.S.C. 3001 (2), there is a relationship of shared group identity that can be reasonably traced between the Native American human remains and associated funerary objects and the Barona Group of Capitan Grande Band of Mission Indians of the Barona Reservation, California; Campo Band of Diegueno Mission Indians of the Campo Indian Reservation, California; Ewiiaapaayp Band of Kumeyaay Indians, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; Santa Ysabel Band of Diegueno Mission Indians of the Santa Ysabel Reservation, California; Sycuan Band of Diegueno Mission Indians of California; and Viejas (Baron Long) Group of Capitan Grande Band of Mission Indians of the Viejas Reservation, California.

Representatives of any other Indian tribe that believes itself to be culturally affiliated with the human remains and associated funerary objects should contact Cindy Stankowski, Director, San Diego Archaeological Center, 16666 San Pasqual Valley Road, Escondido, CA 92027, telephone (760) 291-0370, before April 26, 2004.

Repatriation of the human remains to the Kumeyaay Cultural Repatriation Committee on behalf of the Barona Group of Capitan Grande Band of Mission Indians of the Barona Reservation, California; Campo Band of Diegueno Mission Indians of the Campo Indian Reservation, California; Cuyapaipe Community of Diegueno Mission Indians of the Cuyapaipe Reservation, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; Santa Ysabel Band of Diegueno Mission Indians of the Santa Ysabel Reservation, California; Sycuan Band of Diegueno Mission Indians of California; and Viejas (Baron Long) Group of Capitan Grande Band of Mission Indians of the Viejas Reservation, California may proceed after that date if no additional claimants come forward.

The San Diego Archaeological Center is responsible for notifying the Kumeyaay Cultural Repatriation Committee; Barona Group of Capitan Grande Band of Mission Indians of the Barona Reservation, California; Campo Band of Diegueno Mission Indians of the Campo Indian Reservation, California; Cuyapaipe Community of Diegueno Mission Indians of the Cuyapaipe Reservation, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; Santa Ysabel Band of Diegueno Mission Indians of the Santa Ysabel Reservation, California; Sycuan Band of Diegueno Mission Indians of California; and Viejas (Baron Long) Group of Capitan Grande Band of Mission Indians of the Viejas Reservation, California that this notice has been published.

Dated: January 29, 2004.
John Robbins,
Assistant Director, Cultural Resources.

[FR Doc. 04-6648 Filed 3-24-04; 8:45 am]

BILLING CODE 4310-50-S